DEPARTMENT OF COMMERCE

International Trade Administration

(A-580-825)

Oil Country Tubular Goods, Other Than Drill Pipe, from Korea: Amended Final Results of Antidumping Duty Administrative Review

AGENCY: Import Administration, International Trade Administration, Department of Commerce.

EFFECTIVE DATE: April 11, 2007.

FOR FURTHER INFORMATION CONTACT: Scott Lindsay or Dara Iserson, AD/CVD Operations, Office 6, Import Administration, International Trade Administration, U.S. Department of Commerce, 14th Street and Constitution Avenue, NW, Washington, DC 20230; telephone: (202) 482-0780 or (202) 482-4052.

SUPPLEMENTARY INFORMATION:

Amendment to Final Results of Review

In accordance with section 735(a) of the Tariff Act of 1930, as amended, (the Act), on March 6, 2007, the Department of Commerce (the Department) published its notice of final results of the administrative review of the antidumping duty order on oil country tubular goods (“OCTG”), other than drill pipe, from Korea for the period (“POR”) August 1, 2004 through July 31, 2005. See Oil Country Tubular Goods, Other Than Drill Pipe, from Korea: Final Results of Antidumping Duty Administrative Review, 72 FR 9224 (March 6, 2007) and accompanying Issues and Decision Memorandum, dated February 27, 2007 (Final Results). On March 5, 2007, we extended the deadline to submit ministerial error allegations for SeAH Steel Corporation (SeAH) and United States Steel Corporation (Petitioner) to March 6, 2007. See Letter to Kaye Scholer, LLP from Thomas Gilgunn, Program Manager, Office of AD/CVD Operations VI, Import Administration, dated March 5, 2007; see also Letter to Skadden, Arps, Slate, Meagher & Flom, LLP from Thomas Gilgunn, Program Manager, Office of AD/CVD Operations VI, Import Administration, dated March 5, 2007. On March 6, 2007, SeAH and Petitioner filed timely allegations that the Department made ministerial errors in the Final Results. On March 12, 2007, Petitioner filed a timely response to the ministerial error allegations submitted by SeAH.

After analyzing parties' comments, we have determined, in accordance with 19 CFR 351.224(e), that we made the following ministerial errors in our calculations performed for the final results of review: (1) we incorrectly merged and matched SeAH's further manufacturing cost file with its U.S. sales database; (2) we incorrectly double-counted the general and administrative expenses incurred by SeAH's affiliate, Pusan Pipe America, Inc., in connection to the further manufacturing performed in the United States; (3) when conducting the cost test, we incorrectly compared the comparison market net price (CMNPRICOP) (inclusive of comparison market indirect selling expenses), to the average cost of production, (which excludes indirect selling expenses); and 4) we assigned incorrect values to U.S. inland freight from port to warehouse (INLFPWU) on SeAH's U.S. sales that were both further manufactured and sent directly from Korea to unaffiliated customers in the United States.

For a detailed discussion of the ministerial errors listed above, as well as the Department's analysis, see Memorandum from Scott Lindsay, Senior Analyst, AD/CVD Operations, Office 6, to Thomas Gilgunn, Program Manager, AD/CVD Operations, Office 6, concerning Oil Country Tubular Goods, Other Than Drill Pipe, from Korea: Analysis of Ministerial Error Allegations for SeAH Steel Corporation, dated April 5, 2007, a public version of which is on file in the Central Records Unit, Room B-099 of the main Commerce Building.

Therefore, in accordance with 19 CFR 351.224(e), we are amending the final results of administrative review of OCTG from Korea for the period August 1, 2004 through July 31, 2005. As a result of correcting the ministerial errors discussed above, SeAH's weighted-average dumping margin changed from 4.73 percent to 0.77 percent. For the remaining respondents, the weighted-average dumping margin remains the same. See Final Results.

Continuation of Suspension of Liquidation

The Department shall determine, and U.S. Customs and Border Protection (CBP) shall assess, antidumping duties on all appropriate entries. In accordance with 19 CFR 351.212(b)(1), we have calculated importer-specific assessment rates by dividing the dumping margin found on the subject merchandise examined by the entered value of such merchandise. Where the importer-specific assessment rate is above de minimis, we will instruct CBP to assess antidumping duties on that importer's entries of subject merchandise. The Department intends to issue assessment instructions to CBP 15 days after the date of publication of these final results of review.

Furthermore, the following deposit requirements will be effective upon publication of these amended final results of the administrative review for shipments of the subject merchandise entered, or withdrawn from warehouse, for consumption on or after the publication date of these amended final results of administrative review, as provided by section 751(a) of the Act: (1) for subject merchandise exported by SeAH, the cash deposit rate will be 0.77 percent; (2) for Husteel Corporation, Ltd., the cash deposit rate will remain as established in the Final Results. These cash deposit requirements shall remain in effect until publication of the final results of the next administrative review.

This determination is issued and published pursuant to sections 751(h) and 771(i)(1) of the Act.

Dated: April 4, 2007.
Stephen J. Claeys,
Deputy Assistant Secretary for Import Administration.

[FR Doc. E7-6868 Filed 4-10-07; 8:45 am]

BILLING CODE 3510-DS-S